DEPARTMENT OF LABOR

Employment and Training Administration

[TA-W-38,423]

LTV Steel Co., Inc., Tin Mill Department, Aliquippa, PA; Notice of Termination of Investigation

Pursuant to section 221 of the Trade Act of 1974, an investigation was initiated on December 11, 2000, in response to a worker petition which was filed by the United Steelworkers of America, Local 1211, on behalf of workers at LTV Steel Corporation, Tin Mill Department, Aliquippa, Pennsylvania. Petitioners indicated US Steel Group, Pittsburgh, Pennsylvania as the firm employing the workers. However, US Steel Group did not assume full ownership of the Aliquippa facility and therefore LTV Steel Co., Inc., remains the employing firm in this case.

The petitioning group of workers are subject to an ongoing investigation for which a determination has not yet been issued (TA-W-38,422). Consequently, further investigation in this case would serve no purpose, and the investigation in this case would serve no purpose, and the investigation has been terminated.

Signed in Washington, DC this 13th day of March, 2001.
Linda G. Poole,
Certifying Officer, Division of Trade Adjustment Assistance.

[FR Doc. 01-8331 Filed 4-4-01; 8:45 am]

BILLING CODE 4510-30-M